DEPARTMENT OF ENERGY

Federal Energy Regulatory Commission

Combined Notice of Filings

Take notice that the Commission has received the following Natural Gas Pipeline Rate and Refund Report filings:

Filings Instituting Proceedings

Docket Numbers: RP15-905-000.

Applicants: Gas Transmission Northwest LLC.

Description: § 4(d) rate filing per 154.204: Consolidation of PS-1_AIS-1 into PAL Service to be effective 6/1/2015.

Filed Date: 4/24/15.

Accession Number: 20150424-5035.

Comments Due: 5 p.m. ET 5/6/15.

Docket Numbers: RP15-906-000.

Applicants: Kern River Gas Transmission Company.

Description: § 4(d) rate filing per 154.204: 2015 Pooling/Title Transfer Tracking to be effective 5/28/2015.

Filed Date: 4/24/15.

Accession Number: 20150424-5103.

Comments Due: 5 p.m. ET 5/6/15.

Docket Numbers: RP15-907-000.

Applicants: Great Lakes Gas Transmission Limited Par.

Description: Great Lakes Gas Transmission's Revenue Cap and Revenue Sharing Mechanism True-Up Report.

Filed Date: 4/24/15.

Accession Number: 20150424-5158.

Comments Due: 5 p.m. ET 5/6/15.

Docket Numbers: RP15-908-000.

Applicants: Kern River Gas Transmission Company.

Description: § 4(d) rate filing per 154.204: 2015 Interruptible Agreements to be effective 5/28/2015.

Filed Date: 4/27/15.

Accession Number: 20150427-5409.

Comments Due: 5 p.m. ET 5/11/15.

Docket Numbers: RP15-909-000.

Applicants: Gulf South Pipeline Company, LP.

Description: § 4(d) rate filing per 154.204: Cap Rel Neg Rate Agmt (FPL 41618 to Tenaska 44540) to be effective 5/1/2015.

Filed Date: 4/27/15.

Accession Number: 20150427-5420.

Comments Due: 5 p.m. ET 5/11/15.

Docket Numbers: RP15-910-000.

Applicants: Natural Gas Pipeline Company of America.

Description: § 4(d) rate filing per 154.204: Exelon Negotiated Rate Filing to be effective 5/1/2015.

Filed Date: 4/27/15.

Accession Number: 20150427-5429.

Comments Due: 5 p.m. ET 5/11/15.

Docket Numbers: RP15-911-000.

Applicants: Elba Express Company, L.L.C.

Description: Compliance filing per 154.203: Fuel Tracker Filing—2015.

Filed Date: 4/24/15.

Accession Number: 20150424-5371.

Comments Due: 5 p.m. ET 5/6/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 28, 2015.
Nathaniel J. Davis, Sr.,
Deputy Secretary.

[FR Doc. 2015-11323 Filed 5-8-15; 8:45 am]

BILLING CODE 6717-01-P